DEPARTMENT OF VETERANS AFFAIRS

[OMB Control No. 2900-New (22-0830)]

Agency Information Collection (Agreement for Release of VA Education Information to Third Party) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 26, 2008.

ADDRESSES: Submit written comments on the collection of information through http://www.Regulations.gov or to VA's OMB Desk Officer, OMB Human Resources and Housing Branch, New Executive Office Building, Room 10235, Washington, DC 20503, (202) 395-7316. Please refer to “OMB Control No. 2900-New (22-0830)” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-New (22-0830).”

SUPPLEMENTARY INFORMATION: Title: Agreement for Release of VA Education Information to Third Party, VA Form 22-0830.

OMB Control Number: 2900-New (22-0830).

Type of Review: New collection.

Abstract: Claimants on active duty and overseas complete VA Form 22-0830 to authorize VA to release his or her education benefits information to a third party calling on their behalf. Without the claimant's written consent VA cannot divulge any information, such as the status of a claim, rates of payment or date of payments to individuals calling on behalf of the claimant.

An agency may not conduct or sponsor, and a person is not required to respond to a collection of information unless it displays a currently valid OMB control number. The Federal Register Notice with a 60-day comment period soliciting comments on this collection of information was published on June 3, 2008, at pages 31737-31738.

Affected Public: Individuals or households.

Estimated Annual Burden: 11,000 hours.

Estimated Average Burden Per Respondent: 5 minutes.

Frequency of Response: One time.

Estimated Number of Respondents: 132,000.

Dated: August 21, 2008.
By direction of the Secretary.
Denise McLamb,
Program Analyst, Records Management Service.

[FR Doc. E8-19902 Filed 8-26-08; 8:45 am]

BILLING CODE 8320-01-P